DEPARTMENT OF AGRICULTURE

Forest Service

Notice of Southwest Idaho Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393), the Boise and Payette National Forests' Southwest Idaho Resource Advisory Committee will conduct a business meeting, which is open to the public.

DATES: Wednesday, September 12, 2007, beginning at 10:30 a.m.

ADDRESSES: Idaho Counties Risk Management Program Building, 3100 South Vista Avenue, Boise, Idaho.

SUPPLEMENTARY INFORMATION: Doug Gochnour, Designated Federal Officer, at 208-392-6681 or e-mail dgochnour@fs.fed.us.

FOR FURTHER INFORMATION CONTACT: Agenda topics will include review and approval of project proposals, and is an open public forum.

Dated: August 29, 2007.
Richard A. Smith,
Forest Supervisor, Boise National Forest.

[FR Doc. 07-4345 Filed 9-5-07; 8:45 am]

BILLING CODE 3410-11-M